JUDICIAL CONFERENCE OF THE UNITED STATES

Hearing of the Judicial Conference Advisory Rules Committees

AGENCY: Judicial Conference of the United States Advisory Committees on Appellate, Bankruptcy, Civil, Criminal, and Evidence Rules.

ACTION: Notice of Cancellation of Open Hearings.

SUMMARY: The following public hearings on proposed amendments to the Federal Rules of Appellate, Bankruptcy, Civil, Criminal, and Evidence Rules, have been canceled: Evidence Rules Hearing, January 13, 2009, in San Antonio, TX; Criminal Rules Hearing, January 16, 2009, in Los Angeles, CA; Bankruptcy Rules Hearing, January 23, 2009, in New York, NY; Evidence Rules Hearing, January 26, 2008, in Atlanta, GA; Appellate Rules Hearing, January 30, 2009, in Washington, DC; and Bankruptcy Rules Hearing, February 6, 2009, in San Francisco, CA. [Original notice of hearings appeared in the Federal Register on July 29, 2008.]

FOR FURTHER INFORMATION CONTACT: John K. Rabiej, Chief, Rules Committee Support Office, Administrative Office of the United State Courts, Washington, DC 20544, telephone (202) 502-1820.

Dated: January 15, 2009.
John K. Rabiej,
Chief, Rules Committee Support Office.

[FR Doc. E9-1401 Filed 1-23-09; 8:45 am]

BILLING CODE 2210-55-M